ENVIRONMENTAL PROTECTION AGENCY

[EPA-HQ-OPP-2010-1085; FRL-9317-7]

Agency Information Collection Activities; Submission to OMB for Review and Approval; Comment Request; Use of Surveys in Developing Improved Labeling for Insect Repellent Products

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before July 11, 2011.

ADDRESSES: Submit your comments, referencing Docket ID No. EPA-HQ-OPP-2010-1085, to (1) EPA online using http://www.regulations.gov (our preferred method), by e-mail to opp.ncic@epa.gov, or by mail to: EPA Docket Center, Environmental Protection Agency, Office of Pesticide Programs (OPP) Regulatory Public Docket (7502P), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Kathryn Boyle, (7506P), Environmental Protection Agency, 1200 Pennsylvania Ave., NW., Washington, DC 20460; telephone number: 703-305-6304; fax number: 703-305-5884; e-mail address: boyle.kathryn@epa.gov.

SUPPLEMENTARY INFORMATION: EPA has submitted the following ICR to OMB for review and approval according to the procedures prescribed in 5 CFR 1320.12. On February 18, 2011 (76 FR 9574), EPA sought comments on this ICR pursuant to 5 CFR 1320.8(d). EPA received one comment. Any additional comments on this ICR should be submitted to EPA and OMB within 30 days of this notice.

EPA has established a public docket for this ICR under Docket ID No. EPA-HQ-OPP-2010-1085, which is available for online viewing at http://www.regulations.gov, or in person viewing at the OPP Regulatory Public Docket, located at One Potomac Yard (South Bldg.), 2777 S. Crystal Dr., Arlington, VA. The Docket is open from 8 a.m. to 4:30 p.m., Monday through Friday, excluding legal holidays. The telephone number for the OPP Regulatory Public Docket is (703) 305-5805.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Use of Surveys in Developing Improved Labeling for Insect Repellent Products.

ICR numbers: EPA ICR No. 2425.01, OMB Control No. 2070-new.

ICR Status: This is a new ICR.

Abstract: This ICR is for new information collection, a one-time Internet survey, for consumer research. The goals of the Internet survey are to (1) Identify the types of information that users of insect repellents want on the label of an insect repellent and (2) test four versions of efficacy marks, a graphic that could be placed on the front label of an insect repellent, that would standardize the presentation of information on how long the insect repellent repels ticks and mosquitoes. For the first efficacy mark viewed, participants would provide information on their understanding of the efficacy mark, just as if they came across the mark on a product label with no prior explanation of what the mark could mean. Participants would rate all of the efficacy marks for understandability and usefulness, and then indicate a preferred choice. EPA would use this information to formulate decisions and policies affecting future labeling of insect repellents. The ultimate goal of this activity is to help the consumer to effectively use the information on the label to select the insect repellent product most likely to meet their needs and readily understand label instructions regarding safe product use.

Responses to this collection of information are voluntary. One survey would be conducted over the life of this ICR. The collected information could be used to revise insect repellent product labels and to create other user friendly consumer information materials. By enabling consumers to make better choices in regard to purchasing and using products intended to protect their health, EPA will more effectively carry out its mandate to protect the public from unreasonable risks to human health.

Burden Statement: The annual public reporting and recordkeeping burden for this collection of information is estimated to average 15 minutes per response. Burden is defined in 5 CFR 1320.3(b).

Respondents/Affected Entities: members of the general public would participate in the survey.

Estimated Number of Potential Respondents: 3000.

Frequency of Response: One time.

Estimated Total Annual Hour Burden: 750 hours.

Estimated Total Annual Cost: $15,675.

Changes in the Estimates: This is a new collection.

Dated: June 3, 2011.
John Moses,
Director, Collection Strategies Division.

[FR Doc. 2011-14300 Filed 6-8-11; 8:45 am]

BILLING CODE 6560-50-P